DEPARTMENT OF COMMERCE

International Trade Administration

[C-570-011]

Certain Crystalline Silicon Photovoltaic Products From the People's Republic of China: Postponement of Preliminary Determination in the Countervailing Duty Investigation

AGENCY: Enforcement and Compliance, formerly Import Administration, International Trade Administration, Department of Commerce.

FOR FURTHER INFORMATION CONTACT: Justin Neuman at (202) 482-0486 or Milton Koch at (202) 482-2584, AD/CVD Operations, Enforcement and Compliance, International Trade Administration, U.S. Department of Commerce, 14th Street and Constitution Avenue NW., Washington, DC 20230.

SUPPLEMENTARY INFORMATION:

Background

On January 22, 2014, the Department of Commerce (the Department) initiated the countervailing duty investigation of certain crystalline silicon photovoltaic products from the People's Republic of China (PRC).¹ Currently, the preliminary determination is due no later than March 28, 2014.

¹ See Certain Crystalline Silicon Photovoltaic Products From the People's Republic of China: Initiation of Countervailing Duty Investigation, 79 FR 4667 (January 29, 2014).

Postponement of Due Date for the Preliminary Determination

Section 703(b)(1) of the Tariff Act of 1930, as amended (the Act), requires the Department to issue the preliminary determination in a countervailing duty investigation within 65 days after the date on which the Department initiated the investigation. However, if the Department concludes that the parties concerned in the investigation are cooperating and determines that the investigation is extraordinarily complicated, section 703(c)(1)(B) of the Act allows the Department to postpone making the preliminary determination until no later than 130 days after the date on which the administering authority initiated the investigation.

The Department determines that the parties involved in this proceeding are cooperating, and that the investigation is extraordinarily complicated.² Specifically, the Department is investigating numerous alleged subsidy programs in the PRC; these programs include preferential loans and directed credit, debt forgiveness, grants, tax incentives, export incentive programs, and the provision of goods, services, and land for less than adequate remuneration. Due to the number and complexity of the alleged countervailable subsidy practices being investigated, we determine that this investigation is extraordinarily complicated. Therefore, in accordance with section 703(c)(1)(B) of the Act, we are postponing the due date for the preliminary determination to not later than 130 days after the day on which the investigation was initiated. Thus, the deadline for completion of the preliminary determinations is now June 1, 2014. Because the deadline falls on a non-business day, in accordance with the Department's practice, the deadline will become the next business day, June 2, 2014.³

² See section 703(c)(1)(B) of the Act.

³ See Notice of Clarification: Application of “Next Business Day” Rule for Administrative Determination Deadlines Pursuant to the Tariff Act of 1930, as Amended, 70 FR 24533 (May 10, 2005).

This notice is issued and published pursuant to section 703(c)(2) of the Act and 19 CFR 351.205(f)(1).

Dated: March 5, 2014.
Paul Piquado,
Assistant Secretary for Enforcement and Compliance.

[FR Doc. 2014-05249 Filed 3-10-14; 8:45 am]

BILLING CODE 3510-DS-P